DEPARTMENT OF HOUSING AND URBAN DEVELOPMENT

[Docket No. FR-4655-N-09]

Notice of Proposed Information Collection: Comment Request; Multifamily Housing Rehabilitation Loan Program for Capital Repairs 236(s)

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: May 11, 2001.

ADDRESSES: Interested persons are invited to submit comments regarding this proposal. Comments should refer to the proposal by name and/or OMB Control Number and should be sent to: Wayne Eddins, Reports Management Office, Department of Housing and Urban Development, 451 7th Street, SW., L'Enfant Building, Room 8202, Washington, DC 20410.

FOR FURTHER INFORMATION CONTACT: Michael McCullough, Director, Office of Multifamily Development, U.S. Department of Housing and Urban Development, 451 7th Street, SW., Washington, DC 20410, telephone number (202) 708-3000 (this is not a toll-free number), for copies of the proposed forms and other available information.

SUPPLEMENTARY INFORMATION: The Department is submitting the proposed information collection to OMB for review, as required by the Paperwork Reduction Act of 1955 (44 U.S.C. Chapter 35, as amended).

This Notice is soliciting comments from members of the public and affected agencies concerning the proposed collection of information to: (1) Evaluate whether the proposed collection is necessary for the proper performance of the functions of the agency, including whether the information will have practical utility; (2) evaluate the accuracy of the agency's estimate of the burden of the proposed collection of information; (3) enhance the quality, utility, and clarity of the information to be collected; and (4) minimize the burden of the collection of information on those who are to respond; including the use of appropriate automated collection techniques or other forms of information technology, e.g., permitting electronic submission of responses.

This Notice also lists the following information:

Title of Proposal: Multifamily Housing Rehabilitation Loan Program for Capital Repairs.

OMB Control Number, if applicable: 2502-0544.

Description of the need for the information and proposed use: Owners of eligible projects (applicants) will be required to submit to HUD information to show that the project meets the basic eligibility criteria, that rehabilitation is necessary to address the physical needs that exist at the property, and that they do not have the financial resources available to address these needs. These requirements will enable them to resolved the physical deficiencies at the property.

The information includes (a) an application cover letter and description of the proposed use of funds; (b) a worksheet that demonstrates the calculation of the loan amount; (c) an updated Comprehensive Needs Assessment (CNA) including HUD forms 96001, 96002, and 96003; (d) the project's REAC physical and financial assessment scores; and creditworthiness of principal sponsors and the general contractor, the existence of any federal debt, judgments, or bankruptcy claims. The collection of this information is required to reduce the risk of project defaults and claims against the FHA insurance funds.

Agency forms numbers, if applicable: HUD-96001, HUD-96002, HUD-96003.

Estimation of the total numbers of hours needed to prepare the information collection including number of respondents, frequency of response, and hours of response: The estimated number of respondents is 400, the frequency of responses is 1, the number of burden hours is average 4-24, and the annual burden hours requested are 1600-9600.

Status of the proposed information collection: Reinstatement without change or previously approved collection for which approval has expired.

Authority: The Paperwork Reduction Act of 1995, 44 U.S.C., Chapter 35, as amended.

Dated: March 2, 2001.
Wayne Eddins,
Reports Management Officer, Office of the Chief Information Officer.

[FR Doc. 01-5973 Filed 3-9-01; 8:45 am]

BILLING CODE 4210-27-M